DEPARTMENT OF JUSTICE

Notice of Lodging Proposed Consent Decree

In accordance with Departmental Policy, 28 CFR 50.7, notice is hereby given that a proposed Consent Decree in United States v. Randy Johnson, Civ. No. 07-1048, was lodged with the United States District Court for the District of Minnesota on September 7, 2007. This proposed Consent Decree concerns a complaint filed by the United States against Randy Johnson, pursuant to section 301(a) of the Clean Water Act (“CWA”), 33 U.S.C. 1311(a), to obtain injunctive relief from and impose civil penalties against the Defendant for violating the Clean Water Act by discharging pollutants without a permit into waters of the United States. The proposed Consent Decree resolves these allegations by requiring the Defendant to restore the impacted areas and to pay a civil penalty.

The Department of Justice will accept written comments relating to this proposed Consent Decree for thirty (30) days from the date of publication of this Notice. Please address comments to Patricia R. Cangemi, 600 U.S. Courthouse, 300 South Fourth Street, Minneapolis, MN 55415 and refer to United States v. Randy Johnson, Civ. No. 07-1048, DJ # 90-5-1-1-18123.

The proposed Consent Decree may be examined at the Clerk's Office, United States District Court for the District of Minnesota, 202 U.S. Courthouse, 300 S. 4th Street, Minneapolis, MN 55415. In addition, the proposed Consent Decree may be viewed at http://www.usdoj.gov/enrd/Consent_Decree.html.

Scott Schachter,
Assistant Chief, Environmental Defense Section, Environment & Natural Resources Division.

[FR Doc. 07-4647 Filed 9-19-07; 8:45 am]

BILLING CODE 4410-15-M